DEPARTMENT OF DEFENSE

Department of the Army

Board of Visitors, United States Military Academy (USMA)

AGENCY: Department of the Army, DoD.

ACTION: Notice of open Federal advisory committee virtual meeting.

SUMMARY: The Department of the Army is publishing this notice to announce the Federal Advisory Committee Microsoft Office 365 Teams virtual meeting of the U.S. Military Academy Board of Visitors (Board). This meeting is open to the public. For additional information about the Board, please visit the committee's website at https://www.westpoint.edu/about/superintendent/board-of-visitors.

DATES: The United States Military Academy Board of Visitors will conduct a Microsoft Office 365 Teams virtual meeting from 10:00 a.m. to 12:00 p.m., December 1, 2020.

ADDRESSES: Microsoft Office 365 Teams virtual meeting. The U.S. Military Academy Board of Visitors meeting will be a Microsoft Office 365 Teams virtual meeting. To participate in the meeting, see the Meeting Accessibility section for instructions.

FOR FURTHER INFORMATION CONTACT: Mrs. Deadra K. Ghostlaw, the Designated Federal Officer (DFO) for the committee, in writing at: Secretary of the General Staff, ATTN: Deadra K. Ghostlaw, 646 Swift Road, West Point, NY 10996; by email at: deadra.ghostlaw@westpoint.edu or BoV@westpoint.edu; or by telephone at (845) 938-4200.

SUPPLEMENTARY INFORMATION: The USMA BoV provides independent advice and recommendations to the President of the United States on matters related to morale, discipline, curriculum, instruction, physical equipment, fiscal affairs, academic methods, and any other matters relating to the Academy that the Board decides to consider.

Purpose of the Meeting: This is the 2020 Annual Meeting of the USMA BoV. Members of the Board will be provided updates on Academy issues. Agenda: Board Business; Middle States Commission on Higher Education (MSCHE) Reaccreditation; COVID Operations; Strategy Update: Develop Leaders of Character; Cultivate a Culture of Character Growth; Build Diverse and Effective Teams; Modernize, Sustain, and Secure; and Strengthen Partnerships.

Availability of Materials for the Meeting. A copy of the agenda or any updates to the agenda for the December 1, 2020 Microsoft Office 365 Teams virtual meeting will be available. The final version will be available at the Microsoft Office 365 Teams virtual meeting. All materials will be posted to the website after the meeting.

Meeting Accessibility: Pursuant to 5 U.S.C. 552b, as amended and 41 CFR 102-3.140 through 102-3.165, and subject to the availability of space, the meeting is open through Microsoft Office 365 Teams to the public from time in 9:45 a.m.-12:00 p.m. Persons desiring to participate in the meeting through Microsoft Office 365 Teams are required to submit their name, organization, email and telephone contact information to Mrs. Deadra K. Ghostlaw at deadra.ghostlaw@westpoint.edu not later than Wednesday, November 18, 2020. Specific instructions, for Microsoft Office 365 Teams participation in the meeting, will be provided by reply email. The meeting agenda will be available prior to the meeting on the Board's website at: https://www.westpoint.edu/about/superintendent/board-of-visitors.

Special Accommodations: Individuals requiring any special accommodations related to the virtual public meeting or seeking additional information about the procedures, should contact Mrs. Ghostlaw, the committee DFO, at the email address or telephone number listed in the FOR FURTHER INFORMATION CONTACT section, at least seven (7) business days prior to the meeting so that appropriate arrangements can be made.

Written Comments or Statements: Pursuant to 41 CFR 102-3.105(j) and 102-3.140 and section 10(a)(3) of the Federal Advisory Committee Act, the public or interested organizations may submit written comments or statements to the Board about its mission and/or the topics to be addressed in this Microsoft Office 365 Teams virtual public meeting. Written comments or statements should be submitted to Mrs. Ghostlaw, the committee DFO, via electronic mail, the preferred mode of submission, at the address listed in the FOR FURTHER INFORMATION CONTACT section in the following formats: Adobe Acrobat or Microsoft Word. The comment or statement must include the author's name, title, affiliation, address, and daytime telephone number. Written comments or statements being submitted in response to the agenda set forth in this notice must be received by the committee DFO at least seven (7) business days prior to the meeting so that they may be made available to the Board for its consideration prior to the meeting. Written comments or statements received after this date may not be provided to the Board until its next meeting. Please note that because the Board operates under the provisions of the Federal Advisory Committee Act, as amended, all written comments will be treated as public documents and will be made available for public inspection.

Pursuant to 41 CFR 102-3.140d, the committee is not obligated to allow a member of the public to speak or otherwise address the committee during the meeting. However, the committee Designated Federal Official and Chairperson may choose to invite certain submitters to present their comments verbally during the open portion of this meeting or at a future meeting. The Designated Federal Officer, in consultation with the committee Chairperson, may allot a specific amount of time for submitters to present their comments verbally.

James W. Satterwhite, Jr.,
Alternate Federal Liaison Officer.

[FR Doc. 2020-23208 Filed 10-19-20; 8:45 am]

BILLING CODE 5001-03-P